ENVIRONMENTAL PROTECTION AGENCY

[EPA-HQ-OPP-2014-0125; FRL-12184-01-OCSPP]

Pesticide Reregistration Performance Measures and Goals; Annual Progress Report for 2020, 2021 and 2022; Notice of Availability

AGENCY: Environmental Protection Agency (EPA).

ACTION: Notice.

SUMMARY: The Environmental Protection Agency (EPA or Agency) is announcing the availability of EPA's progress report in meeting its performance measures and goals for pesticide reregistration during fiscal years 2020, 2021 and 2022. This progress report also presents the total number of products registered under the “fast-track” provisions of the Federal Insecticide, Fungicide, and Rodenticide Act (FIFRA).

DATES: Submit comments on or before December 2, 2024.

ADDRESSES: Submit your comments, identified by docket identification (ID) number EPA-HQ-OPP-2014-0125, online at http://www.regulations.gov. Follow the online instructions for submitting comments. Do not submit electronically any information you consider to be Confidential Business Information (CBI) or other information whose disclosure is restricted by statute. Additional instructions on commenting and visiting the docket, along with more information about dockets generally, is available at https://www.epa.gov/ dockets.

FOR FURTHER INFORMATION CONTACT: Eric Miederhoff, Antimicrobials Division (7510P), Office of Pesticide Programs, Environmental Protection Agency, 1200 Pennsylvania Ave. NW, Washington, DC 20460-0001; telephone number: (202) 566-0831; email address: miederhoff.eric@epa.gov.

SUPPLEMENTARY INFORMATION:

I. Does this action apply to me?

This action is directed to the public in general and may be of interest to a wide range of stakeholders including environmental, farm worker, and agricultural advocates; the chemical industry; pesticide users; and members of the public interested in the integration of tolerance reassessment with the reregistration process, and the status of various regulatory activities associated with reregistration and tolerance reassessment. Given the broad interest, the Agency has not attempted to identify all the specific entities that may be interested in this action.

II. What action is the Agency taking?

This document announces the availability of EPA's progress report in meeting its performance measures and goals for pesticide reregistration during fiscal years 2020, 2021 and 2022. This report discusses the completion of tolerance reassessments; describes the status of various regulatory activities associated with reregistration; and provides the total number of products reregistered and products registered under the “fast-track” provisions of FIFRA.

III. What is the Agency's authority for taking this action?

FIFRA section 4(l), 7 U.S.C. 136 et seq., requires EPA to publish information about its annual achievements in meeting the performance measures and goals for pesticide reregistration.

IV. Can I comment on this report?

EPA welcomes input from stakeholders and the general public. Any written comments received will be taken into consideration in the event that EPA determines that further action is warranted. EPA does not expect this report to lead to any particular action, and therefore is not seeking particular public comments.

V. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing your comments, see the commenting tips at https://www.epa.gov/dockets/commenting-epa-dockets.

VI. How can I get a copy of the report?

1. Docket. The report is available in the docket identified at the beginning of this document.

2. EPA website. The report is also available on EPA's website at https://www.epa.gov/pesticide-reevaluation/reregistration-and-other-review-programs-predating-pesticide-registration.

Authority: 7 U.S.C. 136a-1(l).

Dated: September 27, 2024.
Michal Freedhoff,
Assistant Administrator, Office of Chemical Safety and Pollution Prevention.

[FR Doc. 2024-22803 Filed 10-2-24; 8:45 am]

BILLING CODE 6560-50-P